DEPARTMENT OF TRANSPORTATION

Bureau of Transportation Statistics

Participation Requested in Developing Data Content Standard for Transportation

AGENCY: Bureau of Transportation Statistics (BTS), DOT.

ACTION: Notice.

This notice announces that the U.S. Department of Transportation, Bureau of Transportation Statistics (BTS), requests your participation in the development of core data content standards for transportation.

Geospatial data exist in numerous locations and in a variety of proprietary formats. Exchanging data between organizations, and sometimes within the same organization, is recognized as a labor-intensive and problematic endeavor. The Geospatial Information One-Stop, an e-government initiative led by the Department of the Interior and the Office of Management and Budget, seeks to overcome many of these issues. The Geospatial Information One-Stop will provide access to the seven National Spatial Data Infrastructure (NSDI) framework themes. This portal will provide an easier means to exchange geospatial data through the use of data content standards. The standards developed through this initiative represent the core data needed for the exchange of information about spatial features and will be developed through a cooperative effort between federal, state, and local agencies as well as universities and private organizations. The Bureau of Transportation Statistics is responsible for coordinating development of the core data content standards for the transportation layer of the NSDI.

Those interested in participating can do so in a variety of ways. Participants can be Subscribers (i.e., persons interested in receiving periodic updates regarding the progress of the design group), Contributors (persons interested in offering model input and background information to be considered in design), Reviewers (persons interested in reviewing various drafts of the Standard when ready), or Modeling Advisory Team Members (vested members assisting modelers in writing and editing the Standard—this includes participating in meeting(s), and some pre-meeting investment is required).

Additional information is available at the BTS Web site (www.bts.gov). If you have questions, want more information, or are interested in participating in this effort please contact Mark Bradford at (202) 366-6810, or mark.bradford@bts.gov by May 15, 2002.

Issued in Washington, DC, on April 29, 2002.
Ashish Sen,
Director, Bureau of Transportation Statistics.

[FR Doc. 02-11004 Filed 5-2-02; 8:45 am]

BILLING CODE 4910-HY-P